DEPARTMENT OF HOUSING AND URBAN DEVELOPMENT

[Docket No. FR-5280-N-22]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Department of the Army, Office of the Assistant Chief of Staff for Installation Management, DAIM-ZS, Room 8536, 2511 Jefferson Davis Hwy, Arlington, VA 22202; (703) 601-2545; GSA: Mr. Gordon Creed, Acting Deputy Assistant Commissioner, General Services Administration, Office of Property Disposal, 18th & F Streets, NW., Washington, DC 20405; (202) 501-0084; Navy: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: June 4, 2009.
Mark R. Johnston,
Deputy Assistant Secretary for Special Needs.

Title V, Federal Surplus Property Program Federal Register Report for 06/12/2009

Suitable/Available Properties

Building

Idaho

Bldg. CF-602

Idaho National Lab

Idaho Falls ID 83415

Landholding Agency: GSA

Property Number: 54200920012

Status: Excess

GSA Number: 9-B-ID-569

Comments: 4224 sq. ft., presence of asbestos/lead paint, off-site use only

Bldg. ARA-617

Idaho National Lab

Idaho Falls ID 83415

Landholding Agency: GSA

Property Number: 54200920013

Status: Excess

GSA Number: 9-B-ID-571

Comments: 1631 sq. ft., needs repair, presence of asbestos/possible contamination, off-site use only

Bldg. PBF-619

Idaho National Lab

Idaho Falls ID 83415

Landholding Agency: GSA

Property Number: 54200920014

Status: Excess

GSA Number: 9-B-ID-568

Comments: 5704 sq. ft., needs repair, presence of asbestos/lead paint, possible contamination, offsite use only

Maryland

Bldg. 02483

Aberdeen Proving Ground

Harford MD 21005

Landholding Agency: Army

Property Number: 21200920025

Status: Unutilized

Comments: 1360 sq. ft., most recent use—heat plt bldg., off-site use only

Bldg. 03320

Aberdeen Proving Ground

Harford MD 21005

Landholding Agency: Army

Property Number: 21200920026

Status: Unutilized

Comments: 10,600 sq. ft., most recent use—admin., off-site use only

Oklahoma

Bldgs. 01509, 01510

Fort Sill

Lawton OK 73501

Landholding Agency: Army

Property Number: 21200920060

Status: Unutilized

Comments: various sq. ft., most recent use—vehicle maint. shop, off-site use only

4 Bldgs.

Fort Sill

2591, 2593, 2595, 2604

Lawton OK 73501

Landholding Agency: Army

Property Number: 21200920061

Status: Unutilized

Comments: Various sq. ft., most recent use—classroom/admin, off-site use only

Tennessee

Bldg. 00001

Fort Campbell

Christian TN 42223

Landholding Agency: Army

Property Number: 21200920027

Status: Unutilized

Comments: Double wide trailer, off-site use only

NOAA Admin. Bldg.

456 S. Illinois Ave.

Oak Ridge TN 38730

Landholding Agency: GSA

Property Number: 54200920015

Status: Excess

GSA Number: 4-B-TN-0664-AA

Comments: 15,955 sq. ft., most recent use—office/storage/lab

Unsuitable Properties

Building

Alabama

9 Bldgs.

Anniston Army Depot

Calhoun AL 36201

Landholding Agency: Army

Property Number: 21200920029

Status: Unutilized

Directions: 43, 44, 146, 164, 605, 671, 678, 679, 701

Reasons: Extensive deterioration

Alaska

Bldg. 47435

Fort Richardson

Ft. Richardson AK 99505

Landholding Agency: Army

Property Number: 21200920028

Status: Unutilized

Reasons: Extensive deterioration

Arizona

Bldgs. 30025, 43003

Fort Huachuca

Cochise AZ 85613

Landholding Agency: Army

Property Number: 21200920030

Status: Excess

Reasons: Extensive deterioration

California

Bldgs. 00040, 00412

SHARPE

Lathrop CA 95231

Landholding Agency: Army

Property Number: 21200920031

Status: Underutilized

Reasons: Secured Area

Florida

7 Bldgs.

Naval Air Station

Pensacola FL 32508

Landholding Agency: Navy

Property Number: 77200920029

Status: Unutilized

Directions: 706, 707, 1040, 1524, 1754, 1957, 3211

Reasons: Secured Area, Extensive deterioration

Georgia

Bldgs. 1608, 8559

Fort Benning

Ft. Benning GA 31905

Landholding Agency: Army

Property Number: 21200920032

Status: Excess

Reasons: Extensive deterioration

Bldgs. 1305, 1306, 1307, 1308

Hunter Army Airfield

Chatham GA 31409

Landholding Agency: Army

Property Number: 21200920033

Status: Excess

Reasons: Extensive deterioration

Bldgs. 728, 729

Fort Stewart

Liberty GA 31314

Landholding Agency: Army

Property Number: 21200920034

Status: Excess

Reasons: Secured Area

Hawaii

Bldgs. 00005, 00006

TANAPAG USARC

Tanapag, HI

Landholding Agency: Army

Property Number: 21200920035

Status: Unutilized

Reasons: Extensive deterioration

Illinois

Bldgs. 00065

Rock Island Arsenal

Rock Island IL 61299

Landholding Agency: Army

Property Number: 21200920037

Status: Unutilized

Reasons: Extensive deterioration, Secured Area, Within 2000 ft. of flammable or explosive material, Contamination

Iowa

Bldgs. TD010, TD020

Camp Dodge

Johnson IA 50131

Landholding Agency: Army

Property Number: 21200920036

Status: Excess

Reasons: Extensive deterioration

Kansas

Bldgs. 680, 681, 682

Fort Riley

Geary KS 66442

Landholding Agency: Army

Property Number: 21200920038

Status: Underutilized

Reasons: Secured Area

Bldgs. 7504, 7506, 7507

Fort Riley

Geary KS 66442

Landholding Agency: Army

Property Number: 21200920039

Status: Unutilized

Reasons: Extensive deterioration

Kentucky

6 Bldgs.

Fort Campbell

Christian KY 42223

Landholding Agency: Army

Property Number: 21200920040

Status: Unutilized

Directions: 01108, 02207, 02330, A2303, 02541, 02572

Reasons: Extensive deterioration

8 Bldgs.

Fort Campbell

Christian KY 42223

Landholding Agency: Army

Property Number: 21200920041

Status: Unutilized

Directions: 02931, A2931, 02932, A2932, B2932, C2932, 02933, A2933

Reasons: Extensive deterioration

10 Bldgs.

Fort Campbell

Christian KY 42223

Landholding Agency: Army

Property Number: 21200920042

Status: Unutilized

Directions: 02934, A2934, B2934, 02935, A2935, 02936, 02937, 02938, 02939, 02941

Reasons: Extensive deterioration

Kentucky

4 Bldgs.

Fort Campbell

Christian KY 42223

Landholding Agency: Army

Property Number: 21200920043

Status: Unutilized

Directions: 06091, 6142, 07223, 07543

Reasons: Extensive deterioration

Maryland

6 Bldgs.

Aberdeen Proving Ground

Harford MD 21005

Landholding Agency: Army

Property Number: 21200920044

Status: Unutilized

Directions: 00086, 0400C, 01050, 01087, 01088, 01199

Reasons: Extensive deterioration

8 Bldgs.

Aberdeen Proving Ground

Harford MD 21005

Landholding Agency: Army

Property Number: 21200920045

Status: Unutilized

Directions: 02201, E3315, 04306, 04307, 04308, 04309, E5117, E5865

Reasons: Extensive deterioration

5 Bldgs.

National Naval Medical Ctr

Bethesda MD

Landholding Agency: Navy

Property Number: 77200920030

Status: Unutilized

Directions: 23, 29, 139, 176, 219

Reasons: Secured Area

Missouri

14 Bldgs.

Fort Leonard Wood

Pulaski MO 65473

Landholding Agency: Army

Property Number: 21200920048

Status: Unutilized

Directions: 2831, 2832, 2833, 2834, 2835, 2836, 2837, 2838, 2839, 2840, 2843, 2844, 2845, 4970

Reasons: Secured Area

New Jersey

Bldgs. 9050D, 59851

Fort Dix

Burlington NJ 08640

Landholding Agency: Army

Property Number: 21200920054

Status: Unutilized

Reasons: Extensive deterioration

New Mexico

13 Bldgs.

Fort Wingate Army Depot

Gallup NM 87301

Landholding Agency: Army

Property Number: 21200920055

Status: Unutilized

Directions: 231, 507, 508, 509, 510, 511, 512, 513, 514, 515, 516, 518, 519

Reasons: Secured Area, Within 2000 ft. of flammable or explosive material

7 Bldgs.

Fort Wingate Army Depot

Gallup NM 87301

Landholding Agency: Army

Property Number: 21200920056

Status: Unutilized

Directions: 520, 522, 524, 526, 527, 528, 529

Reasons: Within 2000 ft. of flammable or explosive material, Secured Area

8 Bldgs.

Fort Wingate Army Depot

Gallup NM 87301

Landholding Agency: Army

Property Number: 21200920057

Status: Unutilized

Directions: 530, 535, 536, 537, 540, 541, 542, 542A

Reasons: Within 2000 ft. of flammable or explosive material, Secured Area

Bldgs. 551, 551B, 600

Fort Wingate Army Depot

Gallup NM 87301

Landholding Agency: Army

Property Number: 21200920058

Status: Unutilized

Reasons: Secured Area, Within 2000 ft. of flammable or explosive material

North Carolina

6 Bldgs.

Fort Bragg

Cumberland NC 28310

Landholding Agency: Army

Property Number: 21200920049

Status: Unutilized

Directions: A1355, A2029, A2031, A2032, A2144, P2352

Reasons: Secured Area, Extensive deterioration

8 Bldgs.

Fort Bragg

Cumberland NC 28310

Landholding Agency: Army

Property Number: 21200920050

Status: Unutilized

Directions: C4125, 09045, 11460, 22809, 23212, 23810, 30844, 55010

Reasons: Extensive deterioration, Secured Area

11 Bldgs.

Fort Bragg

Camp Mackall

Cumberland NC 28310

Landholding Agency: Army

Property Number: 21200920051

Status: Unutilized

Directions: T2455, T2546, T2547, T2653, T2654, T2655, T2656, T2853, T2854, T2855, T2856

Reasons: Extensive deterioration, Secured Area

9 Bldgs.

Fort Bragg

Camp Mackall

Cumberland NC 28310

Landholding Agency: Army

Property Number: 21200920052

Status: Unutilized

Directions: T3038, T3153, T3154, T3162, T3252, T3253, T3255, T3259, T3353

Reasons: Secured Area, Extensive deterioration

5 Bldgs.

Simmons Army Airfield

Cumberland NC 28310

Landholding Agency: Army

Property Number: 21200920053

Status: Unutilized

Directions: P2455, P2457, P2542, P2757, P2852

Reasons: Secured Area, Extensive deterioration

Ohio

Bldg. 27 (1-7)

Defense Supply Center

Columbus OH 43216

Landholding Agency: Army

Property Number: 21200920059

Status: Unutilized

Reasons: Secured Area, Extensive deterioration

Oklahoma

Bldg. 00718

McAlester Army Ammo Plant

McAlester OK 74501

Landholding Agency: Army

Property Number: 21200920062

Status: Excess

Reasons: Within 2000 ft. of flammable or explosive material, Secured Area, Extensive deterioration

Pennsylvania

5 Bldgs.

Letterkenny Army Depot

Chambersburg PA 17201

Landholding Agency: Army

Property Number: 21200920063

Status: Unutilized

Directions: 01466, 03231, 03243, 03244, 03245

Reasons: Within 2000 ft. of flammable or explosive material, Secured Area

5 Bldgs.

Defense Distrib. Depot

Cumberland PA 17070

Landholding Agency: Army

Property Number: 21200920064

Status: Underutilized

Directions: 00172, 00173, 00174, 00175, 00351

Reasons: Secured Area

Bldg. S0093

Tobyhanna Army Depot

Monroe PA 18466

Landholding Agency: Army

Property Number: 21200920065

Status: Underutilized

Reasons: Within 2000 ft. of flammable or explosive material, Secured Area

Puerto Rico

Bldg. 1020

Fort Buchanan

Guaynabo PR 00934

Landholding Agency: Army

Property Number: 21200920066

Status: Excess

Reasons: Extensive deterioration

South Carolina

Bldg. 10810

Ft. Jackson

Richland SC 29207

Landholding Agency: Army

Property Number: 21200920067

Status: Excess

Reasons: Secured Area

Tennessee

Bldgs. B0268, J0134

Milan AAP

Gibson TN 38358

Landholding Agency: Army

Property Number: 21200920068

Status: Excess

Reasons: Within 2000 ft. of flammable or explosive material, Extensive deterioration, Secured Area

Bldg. 1567

Fort Campbell

Christian TN 42223

Landholding Agency: Army

Property Number: 21200920069

Status: Excess

Reasons: Extensive deterioration

Texas

Bldg. 5817

Fort Bliss

El Paso TX 79916

Landholding Agency: Army

Property Number: 21200920071

Status: Unutilized

Reasons: Extensive deterioration

Virginia

6 Bldgs.

Fort A. P. Hill

Bowling Green VA 22427

Landholding Agency: Army

Property Number: 21200920072

Status: Unutilized

Directions: T0807, T0811, T0815, T0816, T0817, T0818

Reasons: Extensive deterioration

Bldg. 00025

Defense Supply Center

Richmond VA 23297

Landholding Agency: Army

Property Number: 21200920073

Status: Unutilized

Reasons: Secured Area

10 Bldgs.

Fort Eustis

Ft. Eustis VA 23604

Landholding Agency: Army

Property Number: 21200920074

Status: Unutilized

Directions: P0718, P0915, P0916, P0917, P0918, P0919, P0920, P0921, P1043, P1044

Reasons: Extensive deterioration

Bldgs. 735-1, 01001

Radford Army Ammo Plant

Radford VA 24143

Landholding Agency: Army

Property Number: 21200920075

Status: Unutilized

Reasons: Within 2,000 ft. of flammable or explosive material, Secured Area

Bldg. T0514

Fort Story

Ft. Story VA 23459

Landholding Agency: Army

Property Number: 21200920077

Status: Unutilized

Reasons: Extensive deterioration

Washington

4 Bldgs.

Fort Lewis

Pierce WA 98433

Landholding Agency: Army

Property Number: 21200920078

Status: Unutilized

Directions: B0823, B0824, B1220, A1450

Reasons: Extensive deterioration

Wisconsin

Bldgs. 02855, 08033, 08041

Fort McCoy

Monroe WI 54656

Landholding Agency: Army

Property Number: 21200920079

Status: Unutilized

Reasons: Extensive deterioration

Land

Maryland

Landa

Aberdeen Proving Ground

Aberdeen Area/1,500 sq. ft.

Harford MD 21005

Landholding Agency: Army

Property Number: 21200920046

Status: Unutilized

Reasons: Secured Area

Lande

Aberdeen Proving Ground

Harford MD 21005

Landholding Agency: Army

Property Number: 21200920047

Status: Unutilized

Directions: Edgewood Area/1,500 sq. ft./2 acres/34 acres

Reasons: Secured Area

Tennessee

Sites #1, #2, #3

Fort Campbell

Christian TN 42223

Landholding Agency: Army

Property Number: 21200920070

Status: Unutilized

Reasons: Secured Area

Virginia

Site #1

Fort Lee

Prince George VA 23801

Landholding Agency: Army

Property Number: 21200920076

Status: Unutilized

Reasons: Secured Area

[FR Doc. E9-13532 Filed 6-11-09; 8:45 am]

BILLING CODE 4210-67-P